DEPARTMENT OF ENERGY

Federal Energy Regulatory Commission

Combined Notice of Filings #1

Take notice that the Commission received the following electric rate filings:

Docket Numbers: ER10-1414-004; ER10-1406-005; ER10-1416-005; ER13-1487-000; ER13-1489-000; ER13-1488-000.

Applicants: Quantum Auburndale Power, LP.

Description: Second Amendment to May 20, 2012 and May 13, 2013 Notification of Non-Material Change in Status and May 14, 2013 Tariff Filings of the Quantum Entities.

Filed Date: 7/30/13.

Accession Number: 20130730-5157.

Comments Due: 5 p.m. ET 8/20/13.

Docket Numbers: ER13-2020-000.

Applicants: Solar Partners II, LLC.

Description: Supplement to July 24, 2013 Solar Partners II, LLC tariff filing.

Filed Date: 7/30/13.

Accession Number: 20130730-5181.

Comments Due: 5 p.m. ET 8/5/13.

Docket Numbers: ER13-2050-000.

Applicants: Solar Partners VIII, LLC.

Description: Supplement to July 29, 2013 Solar Partners VIII, LLC tariff filing.

Filed Date: 7/30/13.

Accession Number: 20130730-5185.

Comments Due: 5 p.m. ET 8/8/13.

Docket Numbers: ER13-2063-000.

Applicants: California Independent System Operator Corporation.

Description: 2013-07-30_MandatoryMSG to be effective 11/1/2013.

Filed Date: 7/30/13.

Accession Number: 20130730-5138.

Comments Due: 5 p.m. ET 8/20/13.

Docket Numbers: ER13-2064-000.

Applicants: Pacific Gas and Electric Company.

Description: 3rd Amendment to Extend the PGE—SVP Interconnection Agreement to be effective 9/30/2013.

Filed Date: 7/30/13.

Accession Number: 20130730-5144.

Comments Due: 5 p.m. ET 8/20/13.

Take notice that the Commission received the following electric securities filings:

Docket Numbers: ES13-38-000.

Applicants: MDU Resources Group, Inc.

Description: Application of MDU Resources Group, Inc. to increase its short term borrowings.

Filed Date: 7/30/13.

Accession Number: 20130730-5155.

Comments Due: 5 p.m. ET 8/20/13.

Take notice that the Commission received the following qualifying facility filings:

Docket Numbers: QF13-387-000.

Applicants: WKN Wagner, LLC.

Description: Refund Report of WKN Wagner, LLC.

Filed Date: 7/30/13.

Accession Number: 20130730-5174.

Comments Due: 5 p.m. ET 8/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2013.
Nathaniel J. Davis, Sr.,
Deputy Secretary.

[FR Doc. 2013-19586 Filed 8-13-13; 8:45 am]

BILLING CODE 6717-01-P